DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 27, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal Plant and Health Inspection Service

Title: Irradiation Phytosanitary Treatment for Fresh Fruits and Vegetables.

OMB Control Number: 0579-0155.

Summary of Collection: Under the Plant Protection Act (7 U.S.C. 7701-7772), the Animal and Plant Health Inspection Service (APHIS) is authorized, among other things, to regulate the importation of plants, plant products, and other articles to prevent the introduction of plant pests disease and noxious weeds into the United States. The regulations in 7 CFR 319 include specific requirements for the importation of fruits and vegetables. The regulations in 7 CFR 305 provide for the use of irradiation as a phytosanitary treatment for certain fruits and vegetables imported in the United States. The irradiation treatment provides protection against all inspect pest including fruit flies, the mango seed weevil, and others. It may be used as an alternative to other approved treatments for these pests in fruits and vegetables, such as fumigation, cold treatment, heat treatment, and other techniques.

Need and Use of the Information: APHIS uses the following information collection activities associated with this program, to employ irradiation as an effective phytosanitary treatment for importing fresh fruit and vegetables into the United States: compliance agreement, operational work plans (cooperative agreements), dosimetry agreement at the irradiation facility, request for dosimetry device approval, 30-day notification, labeling and packaging, recordkeeping, request for certification and inspection of facility, irradiation treatment workplan, facility preclearance workplan, trust fund agreement, phytosanitary certificate, and denial and withdrawal of certification. Without the collection of this information, APHIS would have no practical way of determining that any given commodity had actually been irradiated. Irradiation leaves no residue and usually causes no discernible change to the commodity's color or texture.

Description of Respondents: Business or other for profit; Federal Government.

Number of Respondents: 86.

Frequency of Responses: Recordkeeping; Reporting: On occasion.

Total Burden Hours: 6,092.

Animal and Plant Health Inspection Service

Title: Importation of Live Poultry, Poultry Meat, and Other Poultry Products from Specified Regions.

OMB Control Number: 0579-0228.

Summary of Collection: The Animal Health Protection Act (AHPA) of 2002 is the primary Federal law governing the protection of animal health. The AHPA is contained in title X, subtitle E, sections 10401-18 of Public Law 107-171, May 13, 2002, the Farm Security and Rural Investment Act of 2002 [7 U.S.C. 8301 et seq.]. Veterinary Services of the USDA's Animal and Plant Health Inspection Service (APHIS) is responsible for administering regulations intended to prevent the introduction of animal diseases into the United States. The regulations in 9 CFR part 93 and 94 allow the export of live poultry, poultry meat and other poultry products from Argentina and the Mexican States of Campeche, Quintana Roo, and Yucatan under certain conditions. APHIS will collect information using a health certification statement that must be completed by Mexican veterinary authorities prior to export, APHIS forms VS 17-129, VS 17-29, and VS 17-30 and other activities.

Need and Use of the Information: The information collected from the health certificate, forms and other activities will provide APHIS with critical information concerning the origin and history of the items destined for importation in the United States. Without the information APHIS would be unable to establish an effective defense against the incursion of Highly Pathogenic Avian Influenza and Newcastle Disease from import poultry and poultry products. This could have serious health consequences for the United States poultry and economic consequences for the United States poultry industry.

Description of Respondents: Federal Government; business or other for-profit; individuals or households.

Number of Respondents: 1,178.

Frequency of Responses: Reporting: On occasion.

Total Burden Hours: 4,722.

Ruth Brown,
Departmental Information Collection Clearance Officer.

[FR Doc. 2023-01649 Filed 1-26-23; 8:45 am]

BILLING CODE 3410-34-P